DEPARTMENT OF ENERGY

Federal Energy Regulatory Commission

[Docket No. AD04-9-001]

Billing Procedures for Annual Charges for the Costs of Other Federal Agencies for Administering Part I of the Federal Power Act; Notice Issuing “Other Federal Agency Cost” Submission Form and Extending Related Submission Deadlines

August 13, 2004.

1. By order issued June 18, 2004, the Commission acted on matters remanded to it by the court in City of Tacoma, WA, et al. v. FERC, 331 F.3d 106 (D.C. Cir. 2003). The court concluded that the Commission is required to determine the reasonableness of costs incurred by other Federal agencies (OFAs) in connection with their participation in Commission proceedings under Part I of the Federal Power Act (FPA) ¹ when those agencies seek to include such costs in the administrative annual charges licensees must pay to reimburse the United States for the cost of administering Part I.² The court also remanded issues regarding the eligibility of specific types of OFA costs for reimbursement, and the availability of refunds for certain charges.

¹ 16 U.S.C. 794-823b.

² The OFAs are the Bureau of Indian Affairs, the Bureau of Land Management, Bureau of Reclamation, National Park Service, and U.S. Fish and Wildlife Service (all in the Department of the Interior); Corps of Engineers (in the Department of the Army); U.S. Forest Service (in the Department of Agriculture); and National Oceanic and Atmospheric Administration (in the Department of Commerce).

2. The June 18 Order (1) determined which OFA costs are eligible to be included in administrative annual charges; (2) established procedures for Commission review of future OFA cost submittals, as well as those currently on appeal and (3) introduced a proposed new form to be used in submitting OFA costs, the form to be finalized in a technical conference.³

³ The form was attached to the order and is posted on the Commission's Web site, http://www.ferc.gov/.

3. The technical conference, held on July 1, 2004, was attended by Commission staff and counsel representing affected licensees. The licensees made recommendations with respect to the guidance the Commission should give the OFAs in filling out the form, but did not propose any alterations to the form itself. The licensees did not make any specific recommendations regarding the form's content or design. Attached to this notice is the final form, which is the same as that proposed in the June 18 Order.

4. Numerous licensees have requested rehearing of the June 18 order. To provide more certainty to the annual charges billing process, the Commission has decided to delay the billing of the OFA costs that would have been included in the 2004 annual charges statement until after the rehearing requests are addressed. The Commission informed licensees of this decision in an August 4, 2004 letter included with the Statement of Annual Charges for Administration, Government Dams and Indian Lands for Bill Year 2004. Similarly, the Commission is extending the deadlines stated in the June 18 Order for OFAs to submit their cost data for Fiscal Years 1998-2003. The Commission will establish a new deadline for these submittals after the rehearing requests have been addressed. Anyone having questions regarding this notice should contact Anton Porter at (202) 502-8728, e-mail at anton.porter@ferc.gov.

Magalie R. Salas,
Secretary.

[FR Doc. E4-1879 Filed 8-19-04; 8:45 am]

BILLING CODE 6717-01-P